COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes services previously furnished by such agencies.

DATES: Comments must be received on or before: July 14, 2019.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and a service are proposed for addition to the Procurement List for production by the nonprofit agencies listed:

Products

NSNs—Product Names:

7920-00-NIB-0717—Squeegee, Floor, 24″

7920-00-NIB-0718—Squeegee, Floor, 24″, With Handle

7920-00-NIB-0719—Deck Brush, Rough Surface, 10″

7920-00-NIB-0720—Deck Brush, Rough Surface, 10″, With Handle

7920-00-NIB-0725—Handle, Steel, with Connector

Mandatory Source of Supply: Industries for the Blind and Visually Impaired, Inc., West Allis, WI

Mandatory for: Total Government Requirement

Contracting Activity: FEDERAL ACQUISITION SERVICE, GSA/FSS GREATER SOUTHWEST ACQUISITI

Service

Service Type: Medical Equipment Set Bundling Service

Mandatory for: US Army, Headquarters III Corps, Fort Hood, TX

Mandatory Source of Supply: The Lighthouse for the Blind, St. Louis, MO

Contracting Activity: W40M USA HLTH CONTRACTING ACT

Deletions

The following services are proposed for deletion from the Procurement List:

Services

Service Type: Publications Distribution

Mandatory for: Beale Air Force Base, Beale AFB, CA

Contracting Activity: DEPT OF THE AIR FORCE, FA7014 AFDW PK

Service Type: Janitorial/Grounds Maintenance

Mandatory for: Border Patrol Station, Pecos, TX, Border Patrol Station, Van Horn, TX

Mandatory Source of Supply: Professional Contract Services, Inc., Austin, TX

Contracting Activity: U.S. CUSTOMS AND BORDER PROTECTION, BORDER ENFORCEMENT CTR DIV

Service Type: Janitorial/Custodial

Mandatory for: Veterans Affairs Connecticut Healthcare System: Newington Campus, Newington, CT

Mandatory Source of Supply: CW Resources, Inc., New Britain, CT

Contracting Activity: VETERANS AFFAIRS, DEPARTMENT OF, NAC

Service Type: Secure Document Destruction

Mandatory for: Blanchfield Army Community Hospital, Fort Campbell, KY

Mandatory Source of Supply: Goodwill Industries of Kentucky, Inc., Louisville, KY

Contracting Activity: DEPT OF THE ARMY, W40M SOUTH RGNL CONTR OFC EAST

Service Type: Janitorial Service

Mandatory for: USDA, Forest Service, Dubois Ranger District Office, Caribou-Targhee National Forest, Dubois, ID

Mandatory Source of Supply: Development Workshop, Inc., Idaho Falls, ID

Contracting Activity: FOREST SERVICE, CARIBOU-TARGHEE NATIONAL FOREST

Patricia Briscoe,
Deputy Director, Business Operations (Pricing and Information Management).

[FR Doc. 2019-12596 Filed 6-13-19; 8:45 am]

BILLING CODE 6353-01-P